DEPARTMENT OF TRANSPORTATION

Federal Aviation Administration

14 CFR Part 71

[Docket No. FAA-2006-24243; Airspace Docket No. 06-AWP-11]

RIN 2120-AA66

Revocation of Class D Airspace; Elko, NV

AGENCY: Federal Aviation Administration (FAA), DOT.

ACTION: Direct final rule, confirmation of effective date.

SUMMARY: This document confirms the effective date of the direct final rule which revokes a Class D Airspace at Elko, NV.

DATES: Effective Date: 0901 UTC October 26, 2006.

FOR FURTHER INFORMATION CONTACT: Larry Tonish, Western Terminal Operations Airspace Specialist, AWP-5420.1, Federal Aviation Administration, 15000 Aviation Boulevard, Lawndale, California 90261, telephone (310) 725-6539.

SUPPLEMENTARY INFORMATION: The FAA published this direct final rule with a request for comments in the Federal Register on July 18, 2006 (17 FR 40651). The FAA uses the direct final rulemaking procedure for a non-controversial rule where the FAA believes that there will be no adverse public comment. This direct final rule advised the public that no adverse comments were anticipated, and that unless a written adverse comment, or a written notice of intent to submit such an adverse comment, were received with the comment period, the regulation will become effective on October 26, 2006, as per the direct final rule. No adverse comments were received, and thus this notice confirms that this direct final rule will become effective on that date.

Issued in Los Angeles, California, on August 23, 2006.
Leonard Mobley,
Acting Director, Western Terminal Operations.

[FR Doc. 06-7458 Filed 9-5-06; 8:45 am]

BILLING CODE 4910-13-M